DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Projects for Assistance in Transition From Homelessness (PATH) Program Annual Report (OMB No. 0930-0205)—Revision

The Center for Mental Health Services awards grants each fiscal year to each of the States, the District of Columbia, the Commonwealth of Puerto Rico, the Virgin Islands, Guam, American Samoa, and the Commonwealth of the Northern Mariana Islands from allotments authorized under the PATH program established by Public Law 101-645, 42 U.S.C. 290cc-21 et seq., the Stewart B. McKinney Homeless Assistance Amendments Act of 1990 (section 521 et seq. of the Public Health Service (PHS) Act). Section 522 of the PHS Act requires that the grantee States and Territories must expend their payments under the Act solely for making grants to political subdivisions of the State, and to non-profit private entities (including community-based veterans' organizations and other community organizations) for the purpose of providing services specified in the Act. Available funding is allotted in accordance with the formula provision of section 524 of the PHS Act.

This submission is for a revision of the current approval of the annual grantee reporting requirements. Section 528 of the PHS Act specifies that not later than January 31 of each fiscal year, a funded entity will prepare and submit a report in such form and containing such information as is determined necessary for securing a record and description of the purposes for which amounts received under section 521 were expended during the preceding fiscal year and of the recipients of such amounts and determining whether such amounts were expended in accordance with statutory provisions.

The proposed changes to the PATH Annual Report Survey are as follows:

1. Format

To create a PATH report that is easier to read, the formatting has been modified to be more table driven. In addition, the language has been made more concise. Although the online form and report is close in flow to the previous report, it is necessary to thoroughly read all reporting instructions to insure proper data entry.

2. Estimated Counts

The new PATH report does not include entry of estimated counts. Only actual counts should be entered.

3. Homelessness Management Information System (HMIS) Data Integration

The Data section of the report is expected to be propagated from the local HMIS when providers use HMIS. This includes client counts, services, referrals, and demographics. This data will be automatically aggregated from client-level data.

4. Demographic Responses

In order to facilitate integration of PATH data into HMIS, all data responses have been modified to fully align with valid HMIS responses. For example, the “Hispanic” response has been separated from “Race” and placed in “Ethnicity.”

5. Additional Data Items

The PATH report now tracks demographic data for persons contacted, as well as those enrolled. For services and referrals, in addition to gathering the number of enrolled persons receiving the service or referral, there is a total count of the number of times that particular service was provided or referral made.

6. Voluntary Outcome Measures

The data previously entered as voluntary outcome measures has now been moved to the referral section of the report and are no longer considered “voluntary.”

The estimated annual burden for these reporting requirements is summarized in the table below.

Respondents | Number of respondents | Responses/ respondent | Burden per response (hrs.) | Total burden
States | 56 | 1 | 19 | 1,064
Local provider agencies | 503 | 1 | 34 | 17,102
Total | 559 |  |  | 18,166

Send comments to Summer King, SAMHSA Reports Clearance Officer, Room 8-1099. One Choke Cherry Road, Rockville, MD 20857 or email a copy to summer.king@samhsa.hhs.gov. Written comments must be received before 60 days after the date of the publication in the Federal Register.

Summer King,
Statistician.

[FR Doc. 2012-14198 Filed 6-11-12; 8:45 am]

BILLING CODE 4162-20-P